DEPARTMENT OF LABOR

Employment and Training Administration

[TA-W-65,047]

Gehl Company, Corporate Office and Research and Development Center, West Bend, WI; Notice of Termination of Investigation

Pursuant to Section 221 of the Trade Act of 1974, as amended, an investigation was initiated on January 30, 2009, in response to a worker petition filed by the State of Wisconsin on behalf of workers at Gehl Company, Corporate Office and Research and Development Center, West Bend, Wisconsin.

The petitioner has requested that the petition be withdrawn. Consequently, the investigation has been terminated.

Signed at Washington, DC this 11th day of March 2009.
Elliott S. Kushner,
Certifying Officer, Division of Trade Adjustment Assistance.

[FR Doc. E9-5906 Filed 3-18-09; 8:45 am]

BILLING CODE 4510-FN-P